DEPARTMENT OF AGRICULTURE

Commodity Credit Corporation

Cooperative Conservation Partnership Initiative

AGENCY: Commodity Credit Corporation, Department of Agriculture (USDA).

ACTION: Notice of request for proposals; request for public comment.

SUMMARY: Section 2707 of the Food, Conservation, and Energy Act of 2008 (2008 Act) establishes the Cooperative Conservation Partnership Initiative (CCPI) by amending Section 1243 of the Food Security Act of 1985 [16 U.S.C. 3843]. The Secretary of Agriculture has delegated the authority for CCPI to the Chief of the Natural Resources Conservation Service (NRCS), who is a Vice President of the Commodity Credit Corporation (CCC). NRCS is an agency of the United States Department of Agriculture (USDA). Congress established CCPI to assist potential partners with focusing conservation assistance in defined project areas to achieve high-priority natural resource objectives. In fiscal year (FY) 2009, NRCS will make Environmental Quality Incentives Program (EQIP) and Wildlife Habitat Incentive Program (WHIP) funds available to owners and operators of agricultural and nonindustrial private forest lands who will participate in CCPI projects.

The purpose of this notice is to inform potential partners and producers that include nonindustrial private forest landowners of the availability of CCPI funds and other assistance and to solicit proposals from potential partners who seek to enter into partnership agreements with NRCS to enhance conservation outcomes on agricultural and nonindustrial private forest land.

Additionally, NRCS requests public comment on how CCPI can contribute to the Nation's efforts on energy, climate change, and carbon sequestration within the framework of the Initiative.

DATES: Proposals must be received in the NRCS State office or National office (where the project areas are multi-State or national) within 45 days of the date of this notice. Comments must be received within 30 days of the date of this notice.

Addresses for Submitting Proposals: Written proposals should be sent to the appropriate State Conservationist, Natural Resources Conservation Service. The telephone numbers and addresses of the NRCS State Conservationists are attached in the appendix of this notice. For multi-State proposals, written proposals should be sent to the Chief, Attention: Director, Financial Assistance Programs Division, Room 5241 South Building (Subject: CCPI Proposals), PO Box 2890, Washington, DC 20013. If the project is multi-state in scope, all State Conservationists in the project area must be sent the proposal for review. State Conservationist(s) must submit letters to NRCS National Headquarters by May 8, 2009. A list of NRCS State office addresses and phone numbers is included at the end of the notice. Potential partners are encouraged to consult with the appropriate State Conservationist(s) during proposal development to discuss the letter of review.

Addresses for Submitting Comments: You may send comments which will be available to the public in their entirety, using any of the following methods:

Government-wide rulemaking Web site: Go to http://regulations.gov and follow the instructions for sending comments electronically.

Mail: Financial Assistance Programs Division, U.S. Department of Agriculture, Natural Resources Conservation Service, 1400 Independence Avenue, SW., Room 5241 South Building (Subject: CCPI Comments), Washington, DC 20250-2890; Fax: (202) 720-4265. Hand Delivery Room: Room 5241 South Building, 1400 Independence Avenue, SW., Room 5237, Washington, DC 20250, between 9 a.m. and 4 p.m., Monday through Friday, except Federal Holidays.

This notice may be accessed via Internet. Users can access the NRCS homepage at http://www.nrcs.usda.gov/; select the Farm Bill link from the menu; select the Notices link from beneath the Federal Register Notices Index title. Persons with disabilities who require alternative means for communication (Braille, large print, audio tape, etc.) should contact the USDA TARGET Center at: (202) 720-2600 (voice and TDD).

To view public comments, please ask the guard at the entrance to the South Building to call (202) 720-4527 to be escorted into the building.

FOR FURTHER INFORMATION CONTACT: Director, Financial Assistance Programs Division, NRCS; phone: (202) 720-1845; fax: (202) 720-4265; or e-mail: CCPI2008@wdc.usda.gov; Subject: CCPI; or via Internet. Users can access the NRCS homepage at http://www.nrcs.usda.gov/; select the Farm Bill link from the menu; select the Notices link from beneath the Federal Register Notices Index title. Persons with disabilities who require alternative means for communication (Braille, large print, audio tape, etc.) should contact the USDA TARGET Center at: (202) 720-2600 (voice and TDD).

SUPPLEMENTARY INFORMATION:

Availability of Funding

Effective on the publication date of this notice, the CCC announces the availability until September 30, 2009, of up to $52.4 million of financial assistance funds for CCPI. Under CCPI, the NRCS State Conservationist or Chief enters into multi-year agreements with State and local governments, federally recognized Indian tribes, producer associations, farmer cooperatives, institutions of higher education, and nongovernmental organizations with a history of working cooperatively with producers. The Chief has designated $5.8 million of financial assistance funds for multi-State or national projects. Partnership agreement selection for National and State projects will be based on the criteria established in this notice.

Definitions

Agricultural land means cropland, grassland, rangeland, pasture, and other agricultural land, on which agricultural and forest-related products or livestock are produced and resource concerns may be addressed. Other agricultural lands may include cropped woodland, marshes, incidental areas included in the agricultural operation, and other types of agricultural land used for production of livestock.

Beginning Farmer or Rancher means a person or legal entity who:

(a) Has not operated a farm or ranch, or who has operated a farm or ranch for not more than 10 consecutive years. This requirement applies to all members of an entity who will materially and substantially participate in the operation of the farm or ranch.

(b) In the case of a contract with an individual, individually, or with the immediate family, material and substantial participation requires that the individual provide substantial day-to-day labor and management of the farm or ranch consistent with the practices in the county or State where the farm is located.

(c) In the case of a contract with an entity or joint operation, all members must materially and substantially participate in the operation of the farm or ranch. Material and substantial participation requires that each of the members provide some amount of the management or labor and management necessary for day-to-day activities, such that if each of the members did not provide these inputs, operation of the farm or ranch would be seriously impaired.

Chief means the Chief of NRCS, USDA.

Conservation practice means one or more conservation improvements and activities including structural practices, land management practices, vegetative practices, forest management practices, and other improvements that achieve the program purposes that are planned and installed in accordance with NRCS standards and specifications.

Contract means a legal document that specifies the rights and obligations of any participant accepted to participate in EQIP. A contract is a binding agreement for the transfer of assistance from USDA to the participant to share in the costs of applying conservation practices.

Cost-share agreement means a legal document that specifies the rights and obligations of any participant accepted into WHIP. A WHIP cost-share agreement is a binding agreement for the transfer of assistance from USDA to the participant to share in the costs of applying conservation.

Environmental Quality Incentives Program (EQIP) means a program administered by NRCS in accordance with 7 CFR part 1466, which provides for the installation and implementation of conservation practices on agricultural and nonindustrial private forest land.

Field Office Technical Guide means the official local NRCS source of resource information and interpretation of guidelines, criteria, and standards for planning and applying conservation treatments and conservation management systems. It contains detailed information on the conservation of soil, water, air, plant, and animal resources applicable to the local area for which it is prepared.

Forest management plan means a site-specific plan that is prepared by a professional resource manager, in consultation with the participant, and is approved by the State Conservationist. Forest management plans may include a forest stewardship plan, as specified in Section 5 of the Cooperative Forestry Assistance Act of 1978 (16 U.S.C. 2103a); another practice plan approved by the State Forester; or another plan determined appropriate by the State Conservationist. The plan must comply with Federal, State, tribal, and local laws, regulations, and permit requirements.

Indian land means: (1) Land held in trust by the United States for individual Indians or Indian tribes, or (2) land, the title to which is held by individual Indians or Indian tribes subject to Federal restrictions against alienation or encumbrance, or (3) land which is subject to rights of use, occupancy, and/or benefit of certain Indian tribes, or (4) land held in fee title by an Indian, Indian family, or Indian tribe.

Indian tribe means any Indian Tribe, band, nation, or other organized group or community, including any Alaska Native village or regional or village corporation as defined in or established pursuant to the Alaska Native Claims Settlement Act (43 U.S.C. 1601 et seq.) which is recognized as eligible for the special programs and services provided by the United States to Indians because of their status as Indians.

Limited Resource Farmer or Rancher means:

(a) A person with direct or indirect gross farm sales not more than $155,200 in each of the previous 2 years (adjusted for inflation using Prices Paid by Farmer Index as compiled by National Agricultural Statistical Service), and

(b) Has a total household income at or below the national poverty level for a family of four, or less than 50 percent of county median household income in each of the previous 2 years (to be determined annually using Commerce Department Data).

Nonindustrial private forest land means rural land, as determined by the Secretary, that has existing tree cover or is suitable for growing trees; and is owned by any nonindustrial private individual, group, association, corporation, Indian Tribe, or other private legal entity that has definitive decisionmaking authority over the land.

Partner means an entity that enters into a partnership agreement with NRCS to carry out the CCPI activities. Eligible partners include federally recognized Indian Tribes, State and local units of government, producer associations, farmer cooperatives, and institutions of higher education or nongovernmental organizations with a history of working cooperatively with producers.

Participant means a person or legal entity, joint operation, or tribe that is receiving payment or is responsible for implementing the terms and conditions of a contract or cost-share agreement under a program covered by CCPI.

Partnership agreement means a multi-year agreement between NRCS and the partner.

Payment means financial assistance provided to a participant in accordance with a program contract or cost-share agreement. Payments and payment rates are guided by the existing program rules.

Producer means a person, legal entity, or joint operation who has an interest in the agricultural operation, according to 7 CFR part 1400, or who is engaged in agricultural production or forestry management.

Resource Concern means a specific natural resource problem that represents a significant concern in a State or region, and is likely to be addressed successfully through the implementation of conservation activities by producers.

Socially disadvantaged farmer or rancher means a farmer or rancher who has been subjected to racial or ethnic prejudices because of their identity as a member of a group without regard to their individual qualities.

State Conservationist means the NRCS employee who is authorized to implement conservation programs, administered by NRCS, and who directs and supervises NRCS activities in a State, the Caribbean Area, or the Pacific Islands Area.

State Technical Committee means a committee established by the Secretary in a State pursuant to 16 U.S.C. 3861.

Technical assistance means technical expertise, information, and tools necessary for the conservation of natural resources on land active in agricultural, forestry, or related uses. The term includes the following: (1) Technical services provided directly to farmers, ranchers, and other eligible entities such as conservation planning, technical consultation, and assistance with design and implementation of conservation practices; and (2) technical infrastructure including activities, processes, tools, and agency functions needed to support delivery of technical services, such as technical standards, resource inventories, training, data, technology, monitoring, and effects analyses.

Technical Service Provider means an individual, private-sector entity, or public agency certified by NRCS to provide technical services to program participants, in lieu of or on behalf of NRCS.

Wildlife Habitat Incentive Program (WHIP) means a program administered by NRCS in accordance with 7 CFR 636, which provides for technical and financial assistance to protect, restore, develop, and enhance wildlife habitat.

Overview of the Cooperative Conservation Partnership Initiative

Background

The CCPI is a voluntary conservation initiative that establishes specific parameters for working with eligible partners to provide financial and technical assistance to owners and operators of agricultural and nonindustrial private forest lands. The assistance provided enables participants to install and maintain conservation practices, including the development and adoption of innovative conservation practices and management approaches.

CCPI uses the funds, policies, and processes of EQIP and WHIP to deliver flexible conservation assistance to owners and operators of agricultural and nonindustrial private forest land. Under CCPI, NRCS enters into partnership agreements with eligible entities that want to enhance conservation outcomes on agricultural and nonindustrial private forest land. The intent of CCPI is for the Federal government to leverage investment in natural resources conservation and enhancement from non-Federal sources and to coordinate Federal efforts with other Federal, State, tribal, and local efforts. The purposes of a CCPI partnership agreement are to: (1) Address conservation priorities involving agriculture and nonindustrial private forest land on a local, State, multi-State, or regional level; (2) to encourage producers to cooperate in meeting applicable Federal, State, and local regulatory requirements related to production; (3) to encourage producers to cooperate in the installation and maintenance of conservation practices that affect multiple agricultural or nonindustrial private forest land; and (4) to promote the development and demonstration of innovative conservation practices and delivery methods, including those for specialty crop and organic production and precision agriculture producers.

Partners who may enter into partnership agreements with NRCS include federally recognized Indian Tribes, State and local units of government, producer associations, farmer cooperatives, institutions of higher education, and nongovernmental organizations with a history of working cooperatively with producers to effectively address conservation priorities related to agricultural production and nonindustrial private forest land. Potential partners may submit proposals that request assistance for a specified project area which may be defined by geo-political boundaries, watershed boundaries, or resource concern. The proposal must describe the area to be covered by the project, conservation priorities in the area, conservation objectives to be achieved, the number of producers, including nonindustrial private forest landowners, which are likely to participate; a description of the partner, or partners, collaborating to achieve the objectives of the agreement, and the roles, responsibilities, and capabilities of the partners; a description of the resources that are requested from the Secretary and the contributions of the partners; a description of the plan for monitoring, evaluating, and reporting on progress made towards achieving the objectives of the agreement; and other information that may be required by the Secretary.

Once a partnership proposal is selected, eligible individuals wishing to participate in the project must apply directly to NRCS for funding. Individual applications will be evaluated to ensure that applications selected for funding are most aligned with the project objective. All Federal funds made available through this CCPI request for proposals (RFP) will be provided directly to eligible participants through EQIP contracts and WHIP cost-share agreements. Producers interested in applying must meet the eligibility requirements of the program for which they are applying.

In FY 2009, the aim of CCPI is to deliver EQIP and WHIP assistance to achieve high-priority conservation objectives in geographic areas defined by the partner. Where flexibility is needed to meet project objectives, program adjustments may be made provided such adjustments are within the scope of the applicable programs' statutory and regulatory program authorities. An example of a program adjustment may be bypassing the applicable program ranking process in a situation where a partner has identified the producers approved to participate in the project. Other examples of program adjustments may include flexibility in payment levels, or using a single area-wide plan of operations rather than individual plans of operations.

Submitting Proposals

Prospective partners submit complete proposals to the appropriate State Conservationist (State Initiatives) or the Chief (if the project is multi-State or national). All proposals must be submitted to the appropriate State Conservationist or Chief (Attn: Director, Financial Assistance Programs Division) within 45 days of the date of this notice. If a project is multi-state in scope, all State Conservationists in the project area must be sent the proposal for review. State Conservationist(s) must submit letters to the NRCS National Headquarters by May 8, 2009. A list of NRCS State office addresses and phone numbers is included at the end of the notice. Potential partners are encouraged to consult with the appropriate State Conservationist(s) during proposal development to discuss the letter of review. No agency form is provided; rather, applicants must provide a narrative proposal following the requirements set forth in this notice.

The Chief or State Conservationist will review and evaluate the proposals based on the criteria set forth in this notice. Incomplete proposals will not be considered and will be returned to the submitting entity. Positive consideration will be given to proposals that provide for outreach to beginning, socially disadvantaged, and limited resource farmers or ranchers within the area covered by the project. Positive consideration will also be given to proposals that both achieve program purposes and further the Nation's efforts with renewable energy production, energy conservation, mitigating the effects of climate change, facilitating climate change adaptation, or fostering carbon sequestration. An example of this type of activity may be planting trees along riparian corridors, which not only enhances wildlife habitat and controls erosion, but also sequesters carbon. Once a proposal is selected, NRCS will enter into contracts or cost-share agreements, depending on the applicable program, with eligible participants to install and perform conservation practices and/or enhancements to meet objectives described in the project proposal.

Producers interested in participating in CCPI may apply for designated CCPI funds at their local United States Department of Agriculture (USDA) service center. The designated conservationist will determine the applicable program (EQIP and WHIP) requirements depending on the practices and/or activities which the applicant seeks to install or perform. For example, a State Conservationist will enter into an EQIP contract with an applicant who seeks to apply an agricultural waste management facility, while an applicant who wishes to apply a conservation practice that enhances habitat for at-risk or declining species enters into a WHIP cost-share agreement.

Producers seeking to participate in a CCPI project must meet all program-specific eligibility requirements. The requirements that apply to the contract or cost-share agreement are determined by the program selected, as adjusted by any approved flexibility. For information on the limitations and benefits, including appropriate payment limitations which apply to land and participants enrolled in EQIP and WHIP, please consult the appropriate programs' statutory authority and regulations: Environmental Quality Incentives Program (U.S.C. 3836a, 7 CFR 1466) and Wildlife Habitat Incentive Program (16 U.S.C. 3839bb-1, 7 CFR 636). You may also visit the NRCS Web site at www.nrcs.usda.gov for additional information by selecting the “Programs” tab.

Partner and Land Eligibility

Entities eligible to participate as partners include federally recognized Indian Tribes, State and local units of government, producer associations, farmer cooperatives, institutions of higher education, or nongovernmental organizations with a history of working cooperatively with producers to effectively address conservation priorities related to agricultural production and nonindustrial private forest land.

The following land is eligible for enrollment in the CCPI:

• Private agricultural and nonindustrial private forest land,

• Land meeting the covered programs (EQIP and WHIP) eligibility rules. Eligible land is defined for each program in regulation:

• EQIP: 7 CFR 1466.8(c)

• WHIP: 7 CFR 636.4

Proposal Criteria

To be eligible for selection, prospective partners must submit a complete proposal to the Chief or the appropriate State Conservationist. The proposal must contain the information set forth below in order to receive consideration:

(a) A description of the partner(s) history of working with producers to address the conservation objectives to be achieved;

(b) A description of the geographic area covered by the proposal, conservation priorities in the area, conservation objectives to be achieved, and the expected level of participation by producers;

(c) A description of the partner(s) collaborating to achieve the objectives of the agreement and the roles, responsibilities, and capabilities of the partner(s);

(d) A description of the project duration, not to exceed 5 years in length, and schedule that details when the potential partner anticipates finishing the project and submitting a final report;

(e) A description of the resources that are requested from the Secretary, and the non-Federal resources that will be leveraged by the Federal contribution;

(f) A description of the plan for monitoring, evaluating, and reporting on progress made towards achieving the objectives of the agreement;

(g) A list of the criteria to be used to prioritize individual producer applications to ensure that applications most aligned with the proposal's objectives receive priority;

(h) An estimate of the percentage of producers, including nonindustrial private forest landowners, in the project area that are likely to participate in the project;

(i) A description of the conservation practices and activities to be applied on the landscape within the project timeframe;

(j) An estimate of the financial assistance program funds and acres needed to implement the conservation practices and activities within the project area (for multi-State or national projects, provide the funds/acres by State);

(k) A description of any requested program adjustments, by program, with explanation of why the adjustment is needed in order to achieve the objectives of the project. If a partner is requesting specific program flexibilities that depend on detailed participant or project information, the proposal must provide the needed information. Partners should contact their local NRCS office to determine the specific information required;

(l) A description of how the partner will provide for outreach to beginning, limited resource, and small and disadvantaged farmers and ranchers and Indian Tribes; and

(m) A description of how the proposal's objectives further the Nation's efforts with renewable energy production, energy conservation, mitigating the effects of climate change, facilitating climate change adaptation, or fostering carbon sequestration, if applicable.

Ranking Considerations

Once the Chief or appropriate State Conservationist has assessed the merits of each proposal, the Chief or appropriate State Conservationist will rank the proposals via a competitive process. The Chief or State Conservationist shall give a higher priority to proposals that:

• Have a high percentage of producers actively farming or managing working agricultural or nonindustrial private forest lands included in the area covered by the agreement;

• Complete the application of the conservation practices and/or activities on all of the covered program contracts or cost-share agreements in 5 years or less;

• Assist the participants in meeting local, State, and/or Federal regulatory requirements;

• Significantly leverage non-Federal financial and technical resources and coordinate with other local, State, or Federal efforts;

• Provide for matching technical assistance funds to assist participants with the implementation of their EQIP contracts and WHIP cost-share agreements;

• Deliver high percentages of applied conservation to address water quality, water conservation, or State, regional, or national conservation initiatives;

• Provide innovation in conservation methods and delivery, including outcome-based performance measures and methods;

• Further the Nation's efforts with renewable energy production, energy conservation, mitigating the effects of climate change, facilitating climate change adaptation, or fostering carbon sequestration; or

• Provide for outreach to, and participation of, beginning farmers or ranchers, socially disadvantaged farmers or ranchers, limited resource farmers or ranchers, and Indian Tribes within the area covered by the agreement.

Partnership Agreements

NRCS will enter a partnership agreement with a selected partner as the mechanism for participation in CCPI. The partnership agreement will not obligate funds, but will address among other things:

• The role of the partner;

• The role of NRCS;

• The responsibilities of the partner as it relates to the monitoring and evaluation;

• The format and frequency of reports (semi-annual, annual, and final) that are required as a condition of the agreement;

• The frequency and duration of the monitoring and evaluation that will take place within the project area;

• Plan of Work and Budget to identify other funding sources (if applicable) for financial and/or technical assistance;

• The specified project timeframe; and

• Other requirements deemed necessary by NRCS to further the purposes of the CCPI project.

Once a proposal is selected and a partnership agreement is signed, and subject to the availability of funding, NRCS begins entering into EQIP contracts and/or WHIP cost-share agreements directly with producers that include nonindustrial private forest landowners who are participating in the project. The program used will depend upon the type of practices or activities anticipated to be applied. Participants may have multiple contracts through CCPI if more than one covered program is needed to accomplish the project objectives.

Request for Public Input

USDA furthers the Nation's ability to increase renewable energy production and conservation, mitigate the effects and adapt to climate change, and reduce net carbon and greenhouse gas (GHG) emissions through various assistance programs.

USDA is increasing renewable energy production through facilitating the availability, adoption, and use of wind, solar, and biofuel energy sources. USDA encourages renewable energy production by funding biofuel technology transfer under Conservation Innovation Grants and through facilitating wind and solar power generation facilities for on-farm use on conservation lands under the Conservation Reserve Program and the Grassland Reserve Program.

Energy conservation is improved through more efficient equipment and processes. EQIP fosters energy conservation on farms and ranches by promoting efficient water irrigation systems, no-till, and nutrient management and promoting renewable energy production by installing solar-generated electric fences.

The effects of climate change can be mitigated through improving the adaptability of ecosystems and flexibility of agricultural management systems including reductions in GHG emissions. WHIP improves ecosystem adaptability by enhancing wildlife habitat biodiversity and the Agricultural Management Assistance program promotes flexible management system through integrative pest management.

Climate change adaptation occurs through the adoption of alternative management systems which respond to changes such as decreasing precipitation, longer growing seasons, and increasing vulnerability to pest damage. USDA conservation programs, such as the Agricultural Water Enhancement Program, encourage the adoption of water conservation systems and dry land farming.

Net carbon emissions can be reduced by either reducing fossil fuel use or increasing the land's carbon storage capacity. USDA conservation programs, such as EQIP, assist participants with reducing fossil fuel use through no-till and other conservation-tillage cropping systems which require fewer trips over a field with a tractor. The Wetlands Reserve Program and Healthy Forests Reserve Program sequester carbon by encouraging agricultural land reforestation. The Conservation Stewardship Program encourages conservation tillage activities that improve soil carbon storage.

While much is underway, USDA has adopted a proactive strategy to increase its ability to meet these critical national needs. Therefore, CCC is using this rulemaking opportunity to obtain input from the public on how CCPI can achieve its program purposes and further the Nation's efforts with renewable energy production, energy conservation, mitigating the effects of climate change, facilitating climate change adaptation, or reducing net carbon emissions. For further information on these subjects, you may wish to look at the following Web site: http://www.koshland-science-museum.org/exhibitgcc/.

Signed in Washington, DC, on this date, March 5, 2009.
Dave White,
Acting Vice President, Commodity Credit Corporation and Chief, Natural Resources Conservation Service.

NRCS State Conservationists

Alabama

William Puckett, 3381 Skyway Drive, Post Office Box 311, Auburn, AL 36830, Phone: (334) 887-4535, Fax: (334) 887-4551, bill.puckett@al.usda.gov.

Alaska

Robert Jones, Atrium Building, Suite 100, 800 West Evergreen, Palmer, AK 99645-6539, Phone: (907) 761-7760, Fax: (907) 761-7790, robert.jones@ak.usda.gov.

Arizona

David McKay, 230 N First Avenue, Suite 509, Phoenix, AZ 85003-1733, Phone: (602) 280-8801, Fax: (602) 280-8809, david.mckay@az.usda.gov.

Arkansas

Kalven L. Trice, Federal Building, Room 3416, 700 West Capitol Avenue, Little Rock, AR 72201-3228, Phone: (501) 301-3100, Fax: (501) 301-3194, kalven.trice@ar.usda.gov.

California

Lincoln (Ed) Burton, Suite 4164, 430 G Street, Davis, CA 95616-4164, Phone: (530) 792-5600, Fax: (530) 792-5790, ed.burton@ca.usda.gov.

Caribbean Area

Juan A. Martinez, Director, IBM Building, Suite 604, 654 Munoz Rivera Avenue, Hato Rey, PR 00918-4123, Phone: (787) 766-5206, Fax: (787) 766-5987, juan.martinez@pr.usda.gov.

Colorado

James Allen Green, Room E200C, 655 Parfet Street, Lakewood, CO 80215-5521, Phone: (720) 544-2810, Fax: (720) 544-2965, allen.green@co.usda.gov.

Connecticut

Douglas Zehner, 344 Merrow Road, Suite A, Tolland, CT 06084, Phone: (860) 871-4011, Fax: (860) 871-4054, doug.zehner@ct.usda.gov.

Delaware

Russell Morgan, Suite 100, 1221 College Park Drive, Dover, DE 19904-8713, Phone: (302) 678-4160, Fax: (302) 678-0843, russell.morgan@de.usda.gov.

Florida

Carlos Suarez, 2614 N.W. 43rd Street, Gainesville, FL 32606-6611, Phone: (352) 338-9500, Fax: (352) 338-9574, carlos.suarez@fl.usda.gov.

Georgia

James Tillman, Federal Building, Stop 200, 355 East Hancock Avenue, Athens, GA 30601-2769, Phone: (706) 546-2272, Fax: (706) 546-2120, james.tillman@ga.usda.gov.

Pacific Islands Area

Lawrence T. Yamamoto, Room 4-118, 300 Ala Moana Boulevard, Honolulu, HI 96850-0002, Phone: (808) 541-2600, Ext. 100, Fax: (808) 541-1335, larry.yamamoto@hi.usda.gov.

Idaho

Jeff Burwell, Suite C, 9173 West Barnes Drive, Boise, ID 83709, Phone: (208) 378-5700, Fax: (208) 378-5735, jeffery.burwell@id.usda.gov.

Illinois

William J. Gradle, 2118 W. Park Court, Champaign, IL 61821, Phone: (217) 353-6600, Fax: (217) 353-6676, bill.gradle@il.usda.gov.

Indiana

Jane E. Hardisty, 6013 Lakeside Blvd., Indianapolis, IN 46278-2933, Phone: (317) 290-3200, Fax: (317) 290-3225, jane.hardisty@in.usda.gov.

Iowa

Richard Sims, 693 Federal Building, Suite 693, 210 Walnut Street, Des Moines, IA 50309-2180, Phone: (515) 284-6655, Fax: (515) 284-4394, richard.sims@ia.usda.gov.

Kansas

Eric Banks, 760 South Broadway, Salina, KS 67401-4642, Phone: (785) 823-4500, Fax: (785) 452-3369, eric.banks@ks.usda.gov.

Kentucky

Tom Perrin, Suite 210, 771 Corporate Drive, Lexington, KY 40503-5479, Phone: (859) 224-7350, Fax: (859) 224-7399, tom.perrin@ky.usda.gov.

Louisiana

Kevin Norton, 3737 Government Street, Alexandria, LA 71302, Phone: (318) 473-7751, Fax: (318) 473-7626, kevin.norton@la.usda.gov.

Maine

Juan Hernandez, Suite 3, 967 Illinois Avenue, Bangor, ME 04401, Phone: (207) 990-9100, Ext. 3, Fax: (207) 990-9599, juan.hernandez@me.usda.gov.

Maryland

Jon Hall, John Hanson Business Center, Suite 301, 339 Busch's Frontage Road, Annapolis, MD 21409-5543, Phone: (410) 757-0861 Ext. 315, Fax: (410) 757-6504, jon.hall@md.usda.gov.

Massachusetts

Christine Clarke, 451 West Street, Amherst, MA 01002-2995, Phone: (413) 253-4351, Fax: (413) 253-4375, christine.clarke@ma.usda.gov.

Michigan

Garry Lee, Suite 250, 3001 Coolidge Road, East Lansing, MI 48823-6350, Phone: (517) 324-5270, Fax: (517) 324-5171, garry.lee@mi.usda.gov.

Minnesota

William Hunt, Suite 600, 375 Jackson, St. Paul, MN 55101-1854, Phone: (651) 602-7900, Fax: (651) 602-7913, william.hunt@mn.usda.gov.

Mississippi

Homer L. Wilkes, Suite 1321, Federal Building, 100 West Capitol Street, Jackson, MS 39269-1399, Phone: (601) 965-5205 ext. 130, Fax: (601) 965-4940, homer.wilkes@ms.nrcs.usda.gov.

Missouri

Roger A. Hansen, Parkade Center, Suite 250, 601 Business Loop 70 West, West Columbia, MO 65203-2546, Phone: (573) 876-0901, Fax: (573) 876-0913, roger.hansen@mo.usda.gov.

Montana

Joyce Swartzendruber, Federal Building, Room 443, 10 East Babcock Street, Bozeman, MT 59715-4704, Phone: (406) 587-6811, Fax: (406) 587-6761, joyce.swartzendruber@mt.usda.gov.

Nebraska

Stephen K. Chick, Federal Building, Room 152, 100 Centennial Mall N., Lincoln, NE 68508-3866, Phone: (402) 437-5300, Fax: (402) 437-5327, steve.chick@ne.usda.gov.

Nevada

Bruce Petersen, 1365 Corporate Blvd, Reno, NV 89502, Phone: (775) 857-8500 x. 102, Fax: (775) 857-8524, bruce.petersen@nv.usda.gov.

New Hampshire

George W. Cleek IV, Federal Building, 2 Madbury Road, Durham, NH 03824-2043, Phone: (603) 868-9931, Ext. 125, Fax: (603) 868-5301, george.cleek@nh.usda.gov.

New Jersey

Thomas Drewes, 220 Davidson Avenue, 4th Floor, Somerset, NJ 08873-3157, Phone: (732) 537-6040, Fax: (732) 537-6095, thomas.drewes@nj.usda.gov.

New Mexico

Dennis Alexander, Suite 305, 6200 Jefferson Street, NE, Albuquerque, NM 87109-3734, Phone: (505) 761-4400, Fax: (505) 761-4481, dennis.alexander@nm.usda.gov.

New York

Astor Boozer, Suite 354, 441 South Salina Street, Syracuse, NY 13202-2450, Phone: (315) 477-6504, Fax: (315) 477-6560, astor.boozer@ny.usda.gov.

North Carolina

Mary K. Combs, 4407 Bland Road, Suite 117, Raleigh, NC 27609-6293, Phone: (919) 873-2101, Fax: (919) 873-2156, mary.combs@nc.usda.gov.

North Dakota

J.R. Flores, Jr., Federal Building Room 270, 220 E. Rosser Avenue, Bismarck, ND 58501-1458, Phone: (701) 530-2000, Fax: (701) 530-2110, jr.flores@nd.usda.gov.

Ohio

Terry Cosby, Room 522, 200 North High Street, Columbus, OH 43215-2478, Phone: (614) 255-2472, Fax: (614) 255-2548, terry.cosby@oh.usda.gov.

Oklahoma

Ronald L. Hilliard, 100 USDA, Suite 206, Stillwater, Oklahoma 74074-2655, Phone: (405) 742-1204, Fax: (405) 742-1126, ron.hilliard@ok.usda.gov.

Oregon

Ron Alvarado, 1201 NE Lloyd Blvd., Suite 900, Portland, OR 97232, Phone: (503) 414-3200, Fax: (503) 414-3103, ron.alvarado@or.usda.gov.

Pennsylvania

Craig Derickson, Suite 340, One Credit Union Place, Harrisburg, PA 17110-2993, Phone: (717) 237-2203, Fax: (717) 237-2238, craig.derickson@pa.usda.gov.

Rhode Island

Richard “Pooh” Vongkhamdy, Suite 46, 60 Quaker Lane, Warwick, RI 02886-0111, Phone: (401) 828-1300 ext. 844, Fax: (401) 828-0433, michelle.moore@ri.usda.gov.

South Carolina

Niles Glasgow, Strom Thurmond Federal Building, Room 950, 1835 Assembly Street, Columbia, SC 29201-2489, Phone: (803) 253-3935, Fax: (803) 253-3670, niles.glasgow@sc.usda.gov.

South Dakota

Janet L. Oertly, 200 Fourth Street SW, Huron, SD 57350-2475, Phone: (605) 352-1200, Fax: (605) 352-1288, janet.oertly@sd.usda.gov.

Tennessee

J. Kevin Brown, 675 U.S. Courthouse, 801 Broadway, Nashville, TN 37203-3878, Phone: (615) 277-2531, Fax: (615) 277-2578, kevin.brown@tn.usda.gov.

Texas

Donald W. Gohmert, W.R. Poage Federal Building, 101 South Main Street, Temple, TX 76501-7602, Phone: (254) 742-9800, Fax: (254) 742-9819, don.gohmert@tx.usda.gov.

Utah

Sylvia Gillen, W.F. Bennett Federal Building, Room 4402, 125 South State Street, Salt Lake City, UT 84138-1100, Phone: (801) 524-4555, Fax: (801) 524-4403, sylvia.gillen@ut.usda.gov.

Vermont

Judith Doerner, Suite 105, 356 Mountain View Drive, Colchester, VT 05446, Phone: (802) 951-6795 ext. 228, Fax: (802) 951-6327, judy.doerner@vt.usda.gov.

Virginia

Jack Bricker, Culpeper Building, Suite 209, 1606 Santa Rosa Road, Richmond, VA 23229-5014, Phone: (804) 287-1691, Fax: (804) 287-1737, jack.bricker@va.usda.gov.

Washington

Roylene Rides at the Door, Rock Pointe Tower II, Suite 450, W. 316 Boone Avenue, Spokane, WA 99201-2348, Phone: (509) 323-2900, Fax: (509) 323-2909, roylene.rides-at-the-door@wa.usda.gov.

West Virginia

Kevin Wickey, Room 301, 75 High Street, Morgantown, WV 26505, Phone: (304) 284-7540, Fax: (304) 284-4839, kevin.wickey@wv.usda.gov.

Wisconsin

Patricia S. Leavenworth, 8030 Excelsior Drive, Suite 200, Madison, WI 53717, Phone: (608) 662-4422, Fax: (608) 662-4430, pat.leavenworth@wi.usda.gov.

Wyoming

Xavier Montoya, P.O. Box 33124, Casper, WY 82602, Phone: (307) 233-6750, Fax: (307) 233-6753, xavier.montoya@wy.usda.gov.

[FR Doc. E9-5089 Filed 3-9-09; 8:45 am]

BILLING CODE 3410-16-P